ENVIRONMENTAL PROTECTION AGENCY

40 CFR Part 63

[EPA-HQ-OAR-2002-0034; FRL-8299-8]

RIN 2060-AM85

National Emission Standards for Hazardous Air Pollutants for Iron and Steel Foundries

AGENCY: Environmental Protection Agency (EPA).

ACTION: Proposed rule.

SUMMARY: EPA is proposing amendments to the national emission standards for hazardous air pollutants for iron and steel foundries. The proposed amendments add alternative compliance options for cupolas at existing foundries and clarify several provisions to increase operational flexibility and improve understanding of the final rule requirements.

DATES: Comments must be received on or before May 17, 2007, unless a public hearing is requested by April 27, 2007. If a hearing is requested on the proposed rule, written comments must be received by June 1, 2007.

ADDRESSES: Submit your comments, identified by Docket ID No. EPA-HQ-OAR-2002-0034, by one of the following methods:

• www.regulations.gov: Follow the on-line instructions for submitting comments.

• E-mail: a-and-r-docket@epa.gov.

• Fax: (202) 566-1741.

• Mail: National Emission Standards for Hazardous Air Pollutants for Iron and Steel Foundries Docket, Environmental Protection Agency, Mailcode: 6102T, 1200 Pennsylvania Ave., NW., Washington, DC 20460. Please include a total of two copies.

• Hand Delivery: EPA Docket Center, Public Reading Room, EPA West, Room 3334, 1301 Constitution Ave., NW., Washington, DC 20460. Such deliveries are only accepted during the Docket's normal hours of operation, and special arrangements should be made for deliveries of boxed information.

Instructions: Direct your comments to Docket ID No. EPA-HQ-OAR-2002-0034. EPA's policy is that all comments received will be included in the public docket without change and may be made available online at http://www.regulations.gov, including any personal information provided, unless the comment includes information claimed to be confidential business information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy form. Publicly available docket materials are available either electronically through www.regulations.gov or in hard copy at the National Emission Standards for Hazardous Air Pollutants for Iron and Steel Foundries Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Phil Mulrine, Sector Policies and Programs Division, Office of Air Quality Planning and Standards (D243-02), Environmental Protection Agency, Research Triangle Park, North Carolina 27711, telephone number: (919) 541-5289; fax number: (919) 541-3207; e-mail address: mulrine.phil@epa.gov.

SUPPLEMENTARY INFORMATION:

I. General Information

A. Does this action apply to me?

The regulated categories and entities potentially affected by this proposed action include:

Category | NAICS code ¹ | Examples of regulated entities
Industry | 331511 | Iron foundries. Iron and steel plants. Automotive and large equipment manufacturers.
| 331512 | Steel investment foundries.
| 331513 | Steel foundries (except investment).
Federal government |  | Not affected.
State/local/tribal government |  | Not affected.
¹ North American Industry Classification System.

This table is not intended to be exhaustive, but rather provides a guide for readers regarding entities likely to be affected by this action. To determine whether your facility would be regulated by this action, you should examine the applicability criteria in 40 CFR 63.7682 of subpart EEEEE (NESHAP for Iron and Steel Foundries). If you have any questions regarding the applicability of this action to a particular entity, consult either the air permit authority for the entity or your EPA regional representative as listed in 40 CFR 63.13 of subpart A (General Provisions).

B. What should I consider as I prepare my comments to EPA?

Do not submit information containing confidential business information (CBI) to EPA through www.regulations.gov or e-mail. Send or deliver information identified as CBI only to the following address: Roberto Morales, OAQPS Document Control Officer (C404-02), Environmental Protection Agency, Office of Air Quality Planning and Standards, Research Triangle Park, North Carolina 27711, Attention Docket ID EPA-HQ-OAR-2002-0034. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

C. Where can I get a copy of this document?

In addition to being available in the docket, an electronic copy of this proposed action will also be available on the Worldwide Web (WWW) through the Technology Transfer Network (TTN). Following signature, a copy of this proposed action will be posted on the TTN's policy and guidance page for newly proposed or promulgated rules at the following address: http://www.epa.gov/ttn/oarpg/. The TTN provides information and technology exchange in various areas of air pollution control.

D. When would a public hearing occur?

If anyone contacts EPA requesting to speak at a public hearing concerning the proposed amendments by April 27, 2007, we will hold a public hearing on May 2, 2007. If you are interested in attending the public hearing, contact Ms. Pamela Garrett at (919) 541-7966 to verify that a hearing will be held.

E. How is this document organized?

The supplementary information in this preamble is organized as follows:

I. General Information

A. Does this action apply to me?

B. What should I consider as I prepare my comments to EPA?

C. Where can I get a copy of this document?

D. When would a public hearing occur?

E. How is this document organized?

II. Background Information

III. Summary of Proposed Amendments

A. Emissions Limitations

B. Work Practice Standards

C. Operation and Maintenance Requirements

D. Compliance With Alternative Emissions Limits

E. Monitoring Requirements

F. Recordkeeping and Reporting Requirements

G. Definitions

H. Applicability

I. Editorial Corrections

IV. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Executive Order 12898: Federal Actions to Address Environmental Justice in Minority Populations and Low-Income Populations

II. Background Information

The national emission standards for hazardous air pollutants (NESHAP) for iron and steel foundries (40 CFR part 63, subpart EEEEE) establish emissions limitations and work practice requirements for the control of hazardous air pollutants (HAP) from foundry operations. The NESHAP implement section 112(d) of the Clean Air Act (CAA) by requiring all iron and steel foundries that are major sources of HAP to meet standards reflecting application of the maximum achievable control technology (MACT). The compliance date for most of the subpart EEEEE requirements is April 23, 2007.

After publication of the NESHAP (69 FR 21906, April 22, 2004), the American Foundry Society, the Alliance of Automobile Manufacturers, and the Steel Founders' Society of America filed petitions for reconsideration of the final rule. The American Foundry Society and the Steel Founders' Society of America also filed petitions for review of the final rule (Steel Founders' Society of America v. U.S. EPA, No. 04-1190, DC Cir.) and American Foundry Society v. U.S. EPA, No. 04-1191, DC Cir.). The concerns raised by the petitioners regarding the work practice standards for scrap management have been resolved by rule amendments issued on May 20, 2005 (97 FR 29400). The Steel Founders' Society of America petitioned the court for voluntary dismissal of their petition for review on March 23, 2006, and the court granted that petition on May 2, 2006. Thus, the only challenge to the NESHAP remaining before the court is the American Foundry Society petition for review, No. 04-1191. This proposed rule addresses the need for alternative emissions limits for cupolas at existing foundries and clarification of other rule requirements. EPA anticipates that these proposed amendments will resolve the remaining issues raised by the petitioners.

These amendments are set out in Attachment A to a settlement agreement between EPA and the petitioners that became final on March 9, 2007. In accordance with section 113(g) of the CAA, EPA published a notice of the proposed settlement agreement (72 FR 1986, January 17, 2007) and provided a 30-day comment period which ended on February 16, 2007. The settlement agreement requires that the EPA Administrator sign proposed amendments no later than April 9, 2007.

In addition, since publication of the final rule, we have identified a few minor editorial errors requiring correction. Rather than publish a separate notice of corrections, we are including those changes along with the proposed amendments.

III. Summary of Proposed Amendments

A. Emissions Limitations

1. New Compliance Options for Cupola Metal Melting Furnaces

Section 63.7690(a)(2) of the NESHAP establishes HAP emissions limits for cupola metal melting furnaces at existing iron and steel foundries. The owner or operator may elect to comply with a limit of 0.006 grains per dry standard cubic foot (gr/dscf) of particulate matter (PM) or 0.0005 gr/dscf of total metal HAP. The PM emissions limits for cupolas were based on an evaluation of the average performance achieved by the top 12 percent of the cupola emissions sources (i.e., the “MACT floor”). Because baghouses (the technology on which the MACT floor performance was based) are generally designed to meet a specified outlet concentration limit and because EPA Method 5 (40 CFR part 60, appendix A) directly determines concentration, a concentration-based emissions limit was selected for inclusion in the rule. The alternative concentration-based emissions limit expressed as total metal HAP provided equivalent metal HAP emissions reductions as the MACT floor PM emissions limit. We documented the determination of these emissions limits in a memorandum titled, “Determination of the MACT Floor Metal HAP Emission Limits for Iron and Steel Foundries”, which is included in the docket for the final rule (Docket Item No. EPA-HQ-OAR- 2002-0034-0239).

As part of our discussions with the petitioners on technical issues, we recognized the need for an equivalent mass-based emissions limit for cupola melting furnaces to allow the use of control technologies that are designed on a mass removal basis rather than an outlet concentration basis. We reviewed the data previously identified for the top 12 percent of cupola emissions sources as well as the 6th percentile unit on which the promulgated emissions limit was based. These data indicate that the equivalent mass PM emissions rate for a baghouse operating at the MACT floor emissions limit for cupolas at existing sources (0.006 gr/dscf) is 0.10 pound per ton (lb/ton) of metal charged. In terms of total metal HAP, the MACT-equivalent mass emissions rate for cupolas at existing sources is 0.008 lb/ton. We documented the determination of these mass-based emissions limits in a memorandum titled, “Determination of a MACT Floor Equivalent Emission Limit for Cupola Melting Furnaces,” which is included in the docket for this rulemaking (Docket Item EPA-HQ-OAR-2002-0034-0223). Therefore, we are proposing to amend the emissions limits in 40 CFR 63.7690(a)(2) for cupolas at existing sources to add alternative limits of 0.10 lb/ton of PM or 0.008 lb/ton of total metal HAP.

2. Fugitive Emissions Opacity Limit

Some of the petitioners requested that we revise the opacity limit for fugitive emissions in 40 CFR 63.7690(a)(7) to clarify that the limit does not apply to fugitive emissions that are unrelated to emissions sources subject to the NESHAP. According to the petitioners, the rule could be interpreted to apply to fugitive emissions from foundry-related operations not subject to the rule or operations in other source categories that may be co-located in foundries.

Some foundries are co-located with other manufacturing processes that are housed in separate buildings. We did not intend to set emissions limitations for these co-located operations. Therefore, we are clarifying that the opacity emissions limitations apply only to buildings that house iron and steel foundry emissions sources. If nonfoundry operations are housed in the same building as the foundry operations, the foundry must comply with the opacity limits for that building.

3. Triethylamine Emissions Limit

In response to the petitioners' suggestion, we are proposing to clarify the language of the emissions limit for triethylamine (TEA) in § 63.7690(a)(11) by replacing the reference to test conditions (“as determined when scrubbing with fresh acid solution”) with the phrase “according to the performance test procedures in § 63.7732(g)” since § 63.7732(g) contains the requirement to conduct the test when scrubbing with fresh acid solution.

Although the existing NESHAP primarily address the control of HAP metals, there are potential opportunities for foundries to reduce emissions of other HAP such as TEA through the use of low-HAP binders and other pollution prevention (P2) techniques. Current information indicates that these P2 methods show promise, but they are not appropriate for all foundries or casting methods. And, in some cases, it can be quite costly for the foundry to incorporate P2 methods into their overall process. EPA encourages foundries to explore the various P2 options available and use them when appropriate and cost-effective to further reduce their HAP footprint.

B. Work Practice Standards

1. Capture and Collection Systems

Section 63.7690(b)(1) of the NESHAP requires the owner or operator of an iron or steel foundry to install, operate, and maintain a capture and collection system for all emissions sources subject to a limit or standard for volatile organic hazardous air pollutants (VOHAP) or TEA in 40 CFR 63.7690(a)(8) through (11). One petitioner was concerned that this provision could be construed to require capture and collection systems for electric arc furnaces and electric induction furnaces, even though these furnaces are not directly subject to a VOHAP limit. According to the petitioner, the scrap certification and inspection/selection requirements in 40 CFR 63.7700 could be understood as work practice standards to limit organics from entering electric arc furnaces and electric induction furnaces. It could be inferred that a “standard” limiting VOHAP does exist for these furnaces and therefore, a capture and collection system is required. A similar concern exists for foundries that decide to meet the work practice requirement in 40 CFR 63.7700(e) instead of the VOHAP emissions limit in 40 CFR 7690(a)(9). The petitioner requests that EPA confirm that the scrap certification and inspection/selection requirements are not considered VOHAP work practice standards which would necessitate a capture and collection system.

It is our intent that the requirements for capture and collection systems apply to emissions sources subject to an emissions limit but not to an emissions source subject to work practice standards. A capture and control system that routes emissions to an add-on control device is not needed because the work practice acts to reduce or prevent the release of emissions. In response to the petitioner's concerns, we are proposing to clarify the requirement in § 63.7690(b)(1) by deleting the reference to “standard”.

2. Scrap Management

Section 63.7700(a) of the NESHAP establishes work practice standards to minimize the organics and HAP metals in charge materials. The owner or operator must comply with certification requirements in § 63.7700(b) or operate according to a scrap selection and inspection plan required in § 63.7700(c). One commenter requested that the work practice standards specify that the requirements for the certification and the written plan specify “chlorinated” plastics. Plastics were included in the list of undesirable scrap material primarily because certain types of plastics, such as polyvinyl chloride, could lead to the formation of dioxins. We did not intend to make certain metal components, such as Quiet Steel(®), that contain some plastics that cannot be removed from the scrap unrecyclable. Recycling these materials in foundries is environmentally preferable to landfilling these materials. Therefore, to clarify our intent, we now specify that it is “chlorinated” plastics that are to be removed from the scrap material.

The petitioner also objected to the requirement in 40 CFR 63.7700(c)(2) for the owner or operator to obtain and maintain onsite a copy of the procedures used by the scrap supplier for either removing accessible mercury switches or for purchasing automobile bodies that have had the switches removed. According to the petitioner, it is difficult for some plants to obtain such written procedures from scrap suppliers. In this case, the plant should be able to document their attempts to obtain a copy of the procedures. The proposed amendments include an alternative procedure that allows the plant to document their attempts to obtain a copy of the procedures from the scrap suppliers servicing their area. We note, however, that under 40 CFR 63.7700(c)(2) the materials acquisition program must specify that the scrap supplier remove accessible mercury switches from the trunks and hoods of any automotive bodies contained in the scrap in addition to accessible lead components such as batteries and wheel weights. It is incumbent on the foundry owner or operator to communicate these specifications to their scrap suppliers.

3. Scrap Preheaters

Section 63.7700(e) of the rule establishes requirements for scrap preheaters at an existing iron and steel foundry. The owner or operator must install, operate, and maintain a gas-fired preheater according to 40 CFR 63.7700(e)(1) or charge only certain materials according to 40 CFR 63.7700(e)(2). One petitioner was concerned that the language in 40 CFR 63.7700(e)(1) could be interpreted to require foundries to install gas-fired preheaters, even when not necessary for foundry operations. It was not our intent to mandate installation of preheaters, but rather to establish requirements for those existing facilities that use scrap preheaters in lieu of selecting the option in 40 CFR 63.7700(e)(2). Therefore, we are proposing to clarify § 63.7700(e)(1) by deleting the word “install”. Instead, the owner or operator would be required to operate and maintain a gas-fired preheater where the flame directly contacts the scrap charged.

C. Operation and Maintenance Requirements

One petitioner suggested that the requirement in 40 CFR 63.7710(b) for an operation and maintenance plan would be better understood if it clarified the emissions sources subject to the plan requirements. The proposed amendments clarify that the requirement applies to each capture and collection system and control device for an emissions source subject to a PM, metal HAP, TEA, or VOHAP emissions limit in 40 CFR 63.7690(a).

D. Compliance With Alternative Emissions Limits

The existing NESHAP establishes PM emissions limits and alternative emissions limits expressed in total metal HAP for cupolas and other foundry processes. In response to requests by the petitioners, we are proposing amendments to 40 CFR 63.7732, 40 CFR 63.7690, and 40 CFR 63.7734 to clarify our original intent to allow foundries to demonstrate compliance with any of the applicable alternative emissions limitations that are provided for a specific emissions source. When multiple alternative emissions limitations are provided for a specific emissions source, iron and steel foundries can demonstrate initial compliance with any of the alternative limits; they are not required to comply with all of the alternative emissions limits at any one time. We are also clarifying a facility's ability to change their selected compliance alternative and the procedures needed to effect that change. However, regarding continuous compliance, the facility is expected to continuously comply with the alternative emissions limit that was selected as their compliance option as demonstrated in their most recent performance test. The facility may choose to alter their selected alternative but must continue to comply with the previously selected alternative until they successfully demonstrate compliance with the new alternative emissions limitation.

We are also proposing requirements for determining initial compliance for cupola melting furnaces at existing iron and steel foundries that are subject to the new mass rate emissions limit. Revisions to 40 CFR 63.7732(b) and (c) would include new equations for determining PM or total metal HAP emissions from cupolas in the lb/ton format. Other amendments to 40 CFR 63.7732(b) and (c) would clarify test method and emissions source sampling requirements.

1. Single Performance Test for Control Devices Serving Multiple Units

Section 63.7734 of the NESHAP requires iron and steel foundries to demonstrate initial compliance with PM emissions limits by conducting a performance test for each process unit according to the procedures in 40 CFR 63.7732. One petitioner pointed out that a common emissions control system may serve two similar or identical cupolas or serve multiple furnaces or process units. According to the petitioner, a requirement for separate tests of the control device while the emissions sources are operating is redundant and imposes unnecessary costs because the control device should perform the same on each identical furnace.

We acknowledge that there are certain control device configurations that we cannot fully address within the rule requirements. These situations are best evaluated on a case-by-case basis. Therefore, we are proposing to resolve the petitioner's concern by adding a new provision to the performance test requirements. The proposed amendment requires foundries to submit a site-specific test plan for the situation described by the petitioner or other situations not expressly considered in 40 CFR 63.7734. The site-specific test plan, which is subject to approval by the Administrator, would explain the procedures that would be followed during the test, such as operation of the unit or units at the maximum operating condition of the control system. The Administrator or delegated authority would determine on a case-by-case basis if one representative furnace/control device configuration may be tested.

2. Sampling Procedure for Electric Arc Furnaces, Electric Induction Furnaces, and Scrap Preheaters

One petitioner objected to the sampling instructions in 40 CFR 63.7732(c)(4) and (5) for electric arc and electric induction metal melting furnaces (when metal is being melted) and scrap preheaters (when scrap is being preheated) as inappropriate restrictions on performance testing. Many operations that occur during the furnace melting process are considered part of typical operation. Scrap preheaters operate on a batch basis and do not heat scrap for extended periods of time. It is not practical to start and stop tests for these emissions sources over the course of a heat until the required sampling time is accumulated. According to the petitioner, testing during all phases of operations is consistent with the requirement in § 63.6(f)(2)(iii)(A) of the NESHAP General Provisions (40 CFR part 63, subpart A), which state that a performance test must be conducted under representative operating conditions of the source.

In response to these concerns, we are proposing to clarify that the initial compliance demonstrations for electric arc metal melting furnaces, electric induction metal melting furnaces, and scrap preheaters should be conducted under normal production conditions. The emissions limitations derived for these sources used data for various production cycles, including charging, melting, back-charging, and tapping. As the MACT floor emissions limitation was based on various production cycles and because significant PM and metal HAP emissions can occur from these other production cycles, the promulgated requirement to test only during melting is being amended to more accurately align the testing requirements to the testing procedures used as the basis of the MACT emissions limitation. The proposed amendments require sampling during normal operating conditions, which may include charging, melting, alloying, refining, slagging, and tapping (for a furnace) or charging, heating, and discharging (for a scrap preheater).

3. Minimum Sampling Volume for Total Metal HAP

One petitioner pointed out that it was unnecessary to specify the minimum sample volume for test runs by EPA Method 29 (40 CFR part 60, appendix A) because the method already includes a requirement. The proposed amendments remove this requirement from 40 CFR 63.7732(c)(2).

4. Opacity Test

Section 63.7732(d) of the existing rule establishes the requirements for opacity tests. The proposed amendments instruct the certified observer how to take opacity readings by Method 9 (40 CFR part 60, appendix A) for a building that has many openings. This issue was not addressed in the NESHAP. Under the proposed amendments, the observer would be allowed to take readings from a limited number of openings or vents that appear to have the highest opacities instead of making observations for each opening or vent from the building or structure. Alternatively, a single observation for the entire building would be allowed if the fugitive release points afford such an observation.

Section 63.7732(d)(2) requires that opacity observations to demonstrate compliance with the fugitive emissions opacity standards in 40 CFR 63.7690(a)(7) overlap with the PM performance tests. One petitioner stated that it is not feasible for opacity observations to overlap with PM performance tests in all cases because subsequent tests are required every 6 months for opacity and every 5 years for PM emissions. The petitioner raised the concern that the rule could have been read to require a PM performance test during each opacity test; however, this was not our intent. In response to the petitioner's concern, we are proposing amendments to 40 CFR 63.7732(d)(2) to clarify that opacity tests are to be conducted during PM performance tests, but that PM performance tests are not required to occur during the semiannual opacity tests.

5. Alternative Test Method

Section 63.7732(g)(v) of the NESHAP requires the use of EPA Method 18 (40 CFR part 60, appendix A) to determine the triethylamine (TEA) concentration of gases from the TEA cold box mold or core making line. One petitioner requested EPA to allow an alternative to Method 18 because the detection limit of Method 18, which is approximately 1 part per million by volume (ppmv), is not significantly less than the emissions limit. The petitioner believed this could make compliance determinations problematic. According to the petitioner, operators will need to use the alternative silica gel adsorption tube sampling technique in section 8.2.4 of Method 18 to achieve lower detection limits, but that not all facilities will know to specify the alternative sampling techniques to their testing contractors. The commenter stated that the alternative methodology is equivalent to National Institute of Occupational Safety and Health (NIOSH) Method 2010 and requested that the rule allow the NIOSH method as an acceptable alternative. If the rule specifies the NIOSH method as an alternative, facilities can ensure that proper sampling techniques are used to achieve the low detection limits.

We agree that NIOSH Method 2010 is an acceptable and equivalent sampling alternative to EPA Method 18. However, the NIOSH method does not include quality assurance performance requirements. Therefore, we are proposing NIOSH Method 2010, “Amines, Aliphatic” (incorporated by reference-see § 63.14) as an acceptable alternative to EPA Method 18 (40 CFR part 60, appendix A) provided the performance requirements outlined in section 13.1 of EPA Method 18 are satisfied. Method 2010 is included in the NIOSH Manual of Analytical Methods (4th edition, NIOSH Publication 94-113, August 1994). The manual is available from the Government Printing Office and the National Technical Information Service (NTIS), NTIS publication no. PB95154191. The NIOSH method may also be found on the NIOSH Web site at the following address: www.cdc.gov/niosh/nmam/method-4000.html.

6. Procedures for Establishing Operating Limits

One petitioner pointed out that the procedures for establishing control device operating limits in 40 CFR 63.7733(b) through (d) should not instruct operators to compute and record the 3-hour average parameter value because some sampling durations are based on sampling volumes which do not correspond to a 3-hour period. This requirement could be misinterpreted to require performance testing over a period of at least 3 hours.

We originally intended that the performance test consist of three 1-hour tests runs, and that the control device parameter operating limit would be based on the average of these data. However, there are instances where the duration of the sampling runs may be greater than 1 hour. The proposed amendments delete the reference to the 3-hour average from the test procedures and clarify that the operator is to compute and record the average operating parameter value for each valid sampling run in which the applicable limit is met.

7. Repeat Performance Tests

One petitioner requested EPA to clarify that demonstrating compliance by one method does not preclude a demonstration of compliance using an alternative method at a later date. EPA agrees that a plant may elect to demonstrate compliance with an alternative emissions limit during the repeat performance tests conducted at least every 5 years. Furthermore, the plant may elect to conduct a performance test earlier than 5 years in order to change an operating limit or to demonstrate compliance with a different alternative emissions limit. The proposed amendments clarify these testing options in amendments to 40 CFR 63.7731(a). A test conducted for the purpose of changing operating limits is subject to notification requirements in 40 CFR 63.7750(d).

E. Monitoring Requirements

1. Baghouse Monitoring Requirements

Section 63.7740(b) of the existing NESHAP requires a bag leak detection system for each negative pressure baghouse and for each positive pressure baghouse equipped with a stack where the baghouse is applied to meet any PM or total metal HAP emissions limitation in subpart EEEEE. This provision also requires inspection of each baghouse according to the requirements in 40 CFR 63.7740(b) (1) through (8). One petitioner states that the final rule appears to omit any monitoring requirements for positive pressure baghouses not equipped with a stack. Although these units are not required to install a bag leak detection system, we intended to require the visual inspection of these positive pressure baghouses to ensure their proper performance. Therefore, we are proposing amendments to clarify our original intent to require monitoring inspections of positive baghouses that are not equipped with a stack. The proposed amendments to 40 CFR 63.7740(b) clarify the text to ensure that the requirements in this paragraph for installing and using a bag leak detection system apply only to negative pressure baghouses and positive pressure baghouses equipped with a stack. The inspection requirements would be separated and placed in a new paragraph (c) and clarified to state that the inspection requirements apply to each baghouse regardless of type. The proposed amendments to 40 CFR 63.7740 also renumber the paragraphs which follow new paragraph (c). Similar clarifications would be made to the requirements for demonstrating continuous compliance in 40 CFR 63.7743(c).

2. Demonstration of Initial Compliance With Bag Leak Detection System Operation and Maintenance Requirements

Section 63.7736(c) of the existing NESHAP instructs the owner or operator how to demonstrate initial compliance with the requirements for bag leak detection systems. Under 40 CFR 63.7736(c)(1), the owner or operator must submit the bag leak detection system monitoring plan to the Administrator for approval according to the requirements in 40 CFR 63.7710(b). One petitioner requested EPA to clarify this provision because the requirement could be interpreted to necessitate submission of the monitoring plan independent of the operation and maintenance plan. Our intent in the existing rule was to include the bag leak detection system information in the operation and maintenance plan to streamline the approval process and avoid the administrative costs associated with a separate submission. In addition, having one integrated plan provides a centralized reference tool for control device operation and maintenance requirements. The proposed amendments to 40 CFR 63.7736(c)(1) clarify the requirement to submit the bag leak system monitoring information to the Administrator within the written operation and maintenance plan for approval according to the requirements in § 63.7710(b).

3. Installation, Operation, and Maintenance Requirements for Monitors

One petitioner requested that EPA revise the requirements for operation and maintenance of continuous parameter monitoring systems (CPMS) to more clearly describe the inspection requirements. Under the operation and maintenance requirements for flow measurement devices in 40 CFR 63.7741(a)(1)(iv), the owner or operator must perform monthly inspections of all flow sensor components for integrity, all electrical connections for continuity, and all mechanical connections for leakage. The proposed amendments change this provision to require a monthly visual inspection of all components, including all electrical and mechanical connections for proper functioning. The same changes would be made to the monthly inspection requirements for other types of monitoring devices in §§ 63.7741(a)(2)(vi), (c)(1)(vi), (c)(2)(iv), (d)(8), and (e)(2)(iv).

We are proposing these changes in response to the concerns expressed by one petitioner who explained that the changes are needed to ensure the ability of a facility to comply on a monthly basis. According to the petitioner, the ability of a facility to specifically inspect for “integrity”, “continuity” and “leakage” depends on where the components are located, but a facility would be able to readily determine proper functioning. One the facility determines that a connection is not working properly, additional steps can be taken to address the problem, which may include removing a barrier to allow access to the connection. In addition, testing of the electrical connections for continuity is not necessary when indicators are routinely used to show whether the current is flowing. A visual inspection is sufficient to ensure that current is flowing to each electrical connection.

The proposed amendments also revise the requirement for pressure measurement devices in 40 CFR 63.7741(a)(2)(iii) and 40 CFR 63.7741(c)(1)(iv) for a “daily check of the pressure tap for pluggage.” We are proposing to require a daily check for pluggage when using a regular pressure tap and a monthly check when using a non-clogging pressure tap. Less frequent checks for non-clogging pressure taps would encourage use of newer technology and provide an inspection frequency commensurate with the operation of a non-clogging pressure tap. The proposed amendments also clarify the requirements for pressure measurement devices in 40 CFR 63.7741(a)(2)(iv) and 40 CFR 63.7741(c)(1)(iv) to allow the use of a manometer or equivalent device for calibrations.

F. Recordkeeping and Reporting Requirements

The proposed amendments clarify two of the recordkeeping requirements in 40 CFR 63.7752(a)(4). The requirement for the annual quantity of chemical binder or coating materials used to make molds and cores would be revised to require the annual quantity of chemical binder or coating materials used to coat or make molds and cores. We inadvertently omitted the word “coat” from the original rule language. The requirement for records of the annual quantity of HAP used would state that records are required of the annual quantity of HAP used in these chemical binder or coating materials at the foundry, as calculated from the recorded quantities and chemical compositions (from Material Data Safety Sheet or other documentation). This proposed amendment clarifies that the HAP records requirement is specific to the chemicals used in the mold and core-making and coating operations and not to other HAP materials used at the foundry such as solvents used to clean or degrease equipment.

Proposed amendments to the reporting requirements allow foundries to report the results of the semiannual opacity tests within the semiannual reports rather than having to submit these semiannual documents separately. This change would reduce the administrative costs associated with submission of separate reports. Other proposed amendments to the reporting requirements clarify the requirements for an immediate startup, shutdown, and malfunction report by adding the same language used in 40 CFR 63.10(d)(5)(ii). The proposed amendments require an immediate report if you had a startup, shutdown, or malfunction and the source exceeded any applicable emissions limitation in 40 CFR 63.7690.

G. Definitions

We are proposing to add definitions of the terms “off blast” and “on blast” to 40 CFR 63.7765. These definitions would clarify that blast conditions used to bring the cupola up to operating temperature during start-up are not covered by the VOHAP parameter operating limit in 40 CFR 63.7690(b)(3). The existing parameter operating limit requires the foundry to operate each combustion device applied to emissions from a cupola that is subject to the VOHAP emissions limit so that the 15-minute average combustion zone temperature does not fall below a certain level. The operating limit states that periods when the cupola is off-blast and for 15 minutes after going on-blast from an off-blast condition are not included in the 15-minute average combustion zone temperature. The term “off blast” would be defined as those periods of cupola operation when the cupola is not actively being used to produce molten metal. Off-blast conditions include cupola startup procedures as defined in the startup, shutdown, and malfunction plan. Off-blast conditions also include idling conditions when the blast air is turned off or down to the point that the cupola does not produce additional molten metal. The term “on blast” would mean those periods of cupola operation when combustion (blast) air is introduced to the cupola furnace and the furnace is capable of producing molten metal. On blast conditions are characterized by both blast air introduction and molten metal production.

The petitioners also raised the concern that only a limited number of metal constituents were evaluated when assessing the total metal HAP emissions limits. They noted that not all constituents for which EPA Method 29 (40 CFR part 60, appendix A) is applicable are HAP. They also sought clarification on how to calculate the total metal HAP if certain constituents were below the analytical detection limit.

The evaluation of the total metal HAP emissions limits actually included most Method 29 HAP constituents, although it did not include phosphorus. The evaluation did not include detection limits or other non-zero values for metal constituents measured below detection limit. To address the petitioners' concerns, we are proposing to revise the definition of “total metal HAP” to specify the analytes to be included and how non-detect values are to be used in calculating the total metal HAP quantity. The proposed definition is based on the analytes and methods used to derive the total metal HAP alternative. The definition of “total metal HAP” would be the sum of the concentrations of antimony, arsenic, beryllium, cadmium, chromium, cobalt, lead, manganese, mercury, nickel, and selenium as measured by EPA Method 29 (40 CFR part 60, appendix A). Only the measured concentration of the listed analytes that are present at concentrations exceeding one-half of the quantification limit of the analytical method are used in the sum. If any of the analytes are not detected or are detected at concentrations less than one-half the quantification limit of the analytical method, the concentration of those analytes is assumed to be zero for the purposes of calculating the total metal HAP for this subpart.

We are also proposing to clarify the definition of “scrap preheater” to differentiate scrap dryers that are used solely to remove moisture from the scrap metal from scrap preheaters. Scrap preheaters are used to preheat the metal scrap and reduce the energy required to effect melting. Most scrap preheaters heat the scrap metal to 400 degrees Fahrenheit or higher while scrap dryers operate at lower temperatures and are used solely to remove moisture from the scrap metal as a safety consideration when operating an electric induction furnace. Because of the lower operating temperatures, we do not believe that scrap dryers are a significant potential source for VOHAP emissions. We are proposing to amend the definition of “scrap preheater” to state that scrap dryers, which are used solely to remove water from metal scrap that does not contain any volatile impurities or other tramp materials, are not considered to be scrap preheaters for purposes of this subpart.

H. Applicability

One of the petitioners asked EPA to reference the CAA or NESHAP General Provisions definition of “major source” in 40 CFR 63.7681 (Am I subject to this subpart?). We are proposing to add a reference to 40 CFR 63.2 as requested by the commenter. This addition would clarify that when we refer to a “major source” of hazardous air pollutants in 40 CFR 63.7681, we are referring to the definition of major source in 40 CFR 63.2, and not, for example, to the definition of major source in 40 CFR 51.166.

I. Editorial Corrections

We are proposing to correct a grammatical error in 40 CFR 63.7710(b), which should refer to an emissions source subject to a (rather than “an”) PM, metal HAP, TEA, or VOHAP emissions limit in 40 CFR 63.7690(a). A comma would be added to 40 CFR 63.7734(a)(11). The words “as possible” were inadvertently omitted from 40 CFR 63.7741(a)(2)(i) and would be added. The proposed amendments also correct a misspelling of the word “calendar” in 40 CFR 63.7700(c)(3)(iii).

IV. Statutory and Executive Order Reviews

A. Executive Order 12866: Regulatory Planning and Review

Under Executive Order 12866 (58 FR 51735, October 4, 1993), this action is a “significant regulatory action” because it may “raise novel legal or policy issues.” Accordingly, EPA submitted this action to the Office of Management and Budget (OMB) for review under Executive Order 12866 and any changes made in response to OMB recommendations have been documented in the docket for this action.

B. Paperwork Reduction Act

This action does not impose any new information collection burden. The proposed amendments add a new compliance alternative, allow a new alternative test method, and clarify requirements in the existing rule. One proposed amendment to the baghouse monitoring requirements clarifies our original intent to require inspections of positive pressure baghouses not equipped with a stack. No new burden is associated with this proposed requirement because the burden was included in the approved information collection request (ICR) for the existing rule. The OMB has previously approved the information collection requirements contained in the existing regulation (40 CFR part 63, subpart EEEEE) under the provisions of the Paperwork Reduction Act, 44 U.S.C. 3501 et seq. and has assigned OMB control number 2060-0543, EPA ICR number 2096.02. A copy of the OMB-approved ICR may be obtained from Susan Auby, Collection Strategies Division, U.S. EPA (2822T), 1200 Pennsylvania Ave., NW., Washington, DC 20460, by e-mail at auby.susan@epa.gov, or by calling (202) 566-1672.

Burden means the total time, effort, or financial resources expended by persons to generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR part 63 are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule would not have a significant economic impact on a substantial number of small entities. Small entities include small businesses, small not-for-profit enterprises, and small governmental jurisdictions.

For the purposes of assessing the impacts of the proposed amendments on small entities, small entity is defined as: (1) A small business that meets the Small Business Administration size standards for small businesses found at 13 CFR 121.201 (less than 500 employees for NAICS codes 331511, 331512, and 331513); (2) a small governmental jurisdiction that is a government of a city, county, town, school district, or special district with a population of less than 50,000; and (3) a small organization that is any not-for-profit enterprise which is independently owned and operated and is not dominant in its field.

After considering the economic impacts of the proposed amendments on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C 603 and 604. Thus, an agency may certify that a rule will not have a significant economic impact on a substantial number of small entities if the rule relieves regulatory burden, or otherwise has a positive economic effect on all of the small entities subject to the rule.

There would not be any adverse impacts on any source (including any small entity) as a result of the proposed amendments because the proposed amendments provide an overall economic benefit to entities subject to the rule. The proposed amendments do not create any new requirements or burdens that were not already included in the economic impact assessment for the existing rule. The proposed amendments relieve regulatory burden for all entities as a result of the operational flexibility afforded by the alternative compliance option, alternative test method, and provisions allowing plants to combine multiple reports into a single submission. We have therefore concluded that these proposed amendments will relieve regulatory burden for all affected small entities. We continue to be interested in the potential impacts of the proposed action on small entities and welcome comments on issues related to such impacts.

D. Unfunded Mandates Reform Act

Title II of the Unfunded Mandates Reform Act of 1995 (UMRA), Pub. L. 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the proposed amendments do not contain a Federal mandate that may result in expenditures of $100 million or more for State, local, and tribal governments, in the aggregate, or the private sector in any one year. The proposed amendments are expected to result in an overall reduction in expenditures for the private sector and are not expected to impact State, local, or tribal governments. Thus, the proposed amendments are not subject to the requirements of sections 202 and 205 of the UMRA. In addition, the proposed amendments do not significantly or uniquely affect small governments. The proposed amendments contain no requirements that apply to such governments, and impose no obligations upon them.

E. Executive Order 13132: Federalism

Executive Order 13132 (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The proposed amendments do not have federalism implications. They would not have substantial direct effects on the States, on the relationship between the national government and the States, or on the distribution of power and responsibilities among the various levels of government, as specified in Executive Order 13132. The proposed amendments do not impose any requirements on State and local governments. Thus, Executive Order 13132 does not apply to the proposed amendments.

In the spirit of Executive Order 13132, and consistent with EPA policy to promote communications between EPA and State and local government, EPA specifically solicits comments on this proposed rule from State and local officials.

F. Executive Order 13175: Consultation and Coordination With Indian Tribal Governments

Executive Order 13175 (65 FR 67249, November 6, 2000), requires EPA to develop an accountable process to ensure “meaningful and timely input by tribal officials in the development of regulatory policies that have tribal implications.” The proposed rule amendments do not have tribal implications, as specified in Executive Order 13175. They would not have substantial direct effects on tribal governments, on the relationship between the Federal government and Indian tribes, or on the distribution of power and responsibilities between the Federal government and Indian tribes, as specified in Executive Order 13175. The proposed amendments impose no requirements on tribal governments. Thus, Executive Order 13175 does not apply to the proposed amendments.

G. Executive Order 13045: Protection of Children From Environmental Health and Safety Risks

Executive Order 13045, “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Executive Order has the potential to influence the regulation. These proposed amendments are not subject to the Executive Order because they are based solely on technology performance.

H. Executive Order 13211: Actions That Significantly Affect Energy Supply, Distribution, or Use

These proposed amendments are not a “significant energy action” as defined in Executive Order 13211, “Actions Concerning Regulations That Significantly Affect Energy Supply, Distribution, or Use” (66 FR 28355, May 22, 2001) because they are not likely to have a significant adverse effect on the supply, distribution, or use of energy. Further, we have concluded that these proposed amendments are not likely to have any adverse energy effects because energy requirements would remain at the existing level. No additional pollution controls or other equipment that would consume energy are required by the proposed amendments.

I. National Technology Transfer Advancement Act

Section 12(d) of the National Technology Transfer and Advancement Act (NTTAA) of 1995 (Pub. L. No. 104-113, Section 12(d), 15 U.S.C. 272 note) directs EPA to use voluntary consensus standards (VCS) in its regulatory activities, unless to do so would be inconsistent with applicable law or otherwise impractical. The VCS are technical standards (e.g., materials specifications, test methods, sampling procedures, and business practices) that are developed or adopted by VCS bodies. The NTTAA directs EPA to provide Congress, through OMB, explanations when the Agency does not use available and applicable VCS.

The proposed amendments involve technical standards. These proposed amendments include an alternative methodology, the NIOSH Method 2010, “Amines, Aliphatic” (incorporated by reference in § 63.14) for EPA Method 18 (40 CFR part 60, appendix A) to determine the triethylamine (TEA) concentration of gases from the TEA cold box mold or core making line provided the performance requirements outlined in section 13.1 of EPA Method 18 are satisfied.

Consistent with the NTTAA, EPA conducted searches to identify voluntary consensus standards in addition to these EPA and alternative methods. No applicable voluntary consensus standards were identified.

For the methods required or referenced by this proposed rule, a source may apply to EPA for permission to use alternative test methods or alternative monitoring requirements in place of any required testing methods, performance specifications, or procedures under §§ 63.7(f) and 63.8(f) of Subpart A of the General Provisions.

EPA welcomes comments on this aspect of the proposed rulemaking and, specifically, invites the public to identify potentially-applicable voluntary consensus standards and to explain why such standards should be used in this regulation.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that these proposed amendments will not have disproportionately high and adverse human health or environmental effects on minority or low-income populations because it does not affect the level of protection provided to human health or the environment. These proposed amendments do not relax the control measures on sources regulated by the rule and therefore will not cause emissions increases from these sources.

List of Subjects in 40 CFR Part 63

Environmental protection, Air pollution control, Hazardous substances, Incorporation by reference, Reporting and recordkeeping requirements.

Dated: April 9, 2007.
Stephen L. Johnson,
Administrator.

For the reasons stated in the preamble, part 63, title 40, chapter I, of the Code of Federal Regulations is proposed to be amended as follows:

PART 63—[AMENDED]

1. The authority citation for part 63 continues to read as follows:

Authority: 42 U.S.C. 7401, et seq.

Subpart A—[AMENDED]

2. Section 63.14 is amended by adding paragraph (k)(2) to read as follows:

§ 63.14 Incorporations by reference.

* * * * *

(k) * * *

(2) The following method as published in the National Institute of Occupational Safety and Health (NIOSH) test method compendium, “NIOSH Manual of Analytical Methods”, NIOSH publication no. 94-113, Fourth Edition.

(i) NIOSH Method 2010, “Amines, Aliphatic,” Issue 2 (and subsequent revisions), August 15, 1994, IBR approved for § 63.7732(g)(1)(v) of Subpart EEEEE of this part.

(ii) [Reserved]

Subpart EEEEE—[Amended]

3. Section 63.7681 is amended by revising the second sentence to read as follows:

§ 63.7681 Am I subject to this subpart?

* * * Your iron and steel foundry is a major source of HAP for purposes of this subpart if it emits or has the potential to emit any single HAP at a rate of 10 tons or more per year or any combination of HAP at a rate of 25 tons or more per year or if it is located at a facility that emits or has the potential to emit any single HAP at a rate of 10 tons or more per year or any combination of HAP at a rate of 25 tons or more per year as defined in § 63.2.

4. Section 63.7690 is amended by:

a. Revising paragraphs (a) introductory text;

b. Revising paragraph (a)(2);

c. Revising paragraph (a)(7);

d. Revising paragraphs (a)(11)(i) and (ii); and

e. Revising paragraph (b)(1) introductory text to read as follows:

§ 63.7690 What emissions limitations must I meet?

(a) You must meet the emissions limits or standards in paragraphs (a)(1) through (11) of this section that apply to you. When alternative emissions limitations are provided for a given emissions source, you are not restricted in the selection of which applicable alternative emissions limitation is used to demonstrate compliance.

* * * * *

(2) For each cupola metal melting furnace at an existing iron and steel foundry, you must not discharge emissions through a conveyance to the atmosphere that exceed either the limit for PM in paragraph (a)(2)(i) or (ii) of this section or, alternatively the limit for total metal HAP in paragraph (a)(2)(iii) or (iv) of this section:

(i) 0.006 gr/dscf of PM; or

(ii) 0.10 pound of PM per ton (lb/ton) of metal charged, or

(iii) 0.0005 gr/dscf of total metal HAP; or

(iv) 0.008 lb/ton of total metal HAP.

* * * * *

(7) For each building or structure housing any iron and steel foundry emissions source at the iron and steel foundry, you must not discharge any fugitive emissions to the atmosphere from foundry operations that exhibit opacity greater than 20 percent (6-minute average), except for one 6-minute average per hour that does not exceed 27 percent opacity.

* * * * *

(11) * * *

(i) You must not discharge emissions of TEA through a conveyance to the atmosphere that exceed 1 ppmv, as determined according to the performance test procedures in § 63.7732(g); or

(ii) You must reduce emissions of TEA from each TEA cold box mold or core making line by at least 99 percent, as determined according to the performance test procedures in § 63.7732(g).

(b) * * *

(1) You must install, operate, and maintain a capture and collection system for all emissions sources subject to an emissions limit for VOHAP or TEA in paragraphs (a)(8) through (11) of this section.

* * * * *

5. Section 63.7700 is amended by:

a. Revising the last sentence in paragraph (b);

b. Revising paragraphs (c)(1)(i) and (ii);

c. Revising the last sentence in paragraph (c)(2);

d. Revising paragraph (c)(3)(iii); and

e. Revising paragraph (e)(1) to read as follows:

§ 63.7700 What work practice standards must I meet?

* * * * *

(b) * * * Any post-consumer engine blocks, post-consumer oil filters, or oily turnings that are processed and/or cleaned to the extent practicable such that the materials do not include lead components, mercury switches, chlorinated plastics, or free organic liquids can be included in this certification.

(c) * * *

(1) * * *

(i) For scrap charged to a scrap preheater, electric arc metal melting furnace, or electric induction metal melting furnace, specifications for scrap materials to be depleted (to the extent practicable) of the presence of used oil filters, chlorinated plastic parts, organic liquids, and a program to ensure the scrap materials are drained of free liquids; or

(ii) For scrap charged to a cupola metal melting furnace, specifications for scrap materials to be depleted (to the extent practicable) of the presence of chlorinated plastic, and a program to ensure the scrap materials are drained of free liquids.

(2) * * * You must either obtain and maintain onsite a copy of the procedures used by the scrap supplier for either removing accessible mercury switches or for purchasing automobile bodies that have had mercury switches removed, as applicable, or document your attempts to obtain a copy of these procedures from the scrap suppliers servicing your area.

(3) * * *

(iii) The inspection procedures must include provisions for rejecting or returning entire or partial scrap shipments that do not meet specifications and limiting purchases from vendors whose shipments fail to meet specifications for more than three inspections in one calendar year.

* * * * *

(e) * * *

(1) You must operate and maintain a gas-fired preheater where the flame directly contacts the scrap charged; or

* * * * *

6. Section 63.7710 is amended by revising the first sentence in paragraph (b) introductory text to read as follows:

§ 63.7710 What are my operation and maintenance requirements?

* * * * *

(b) You must prepare and operate at all times according to a written operation and maintenance plan for each capture and collection system and control device for an emissions source subject to a PM, metal HAP, TEA, or VOHAP emissions limit in § 63.7690(a). * * *

* * * * *

7. Section 63.7731 is amended by revising the first sentence in paragraph (a) to read as follows:

§ 63.7731 When must I conduct subsequent performance tests?

(a) You must conduct subsequent performance tests to demonstrate compliance with all applicable PM or total metal HAP, VOHAP, and TEA emissions limitations in § 63.7690 for your iron and steel foundry no less frequently than every 5 years and each time you elect to change an operating limit or to comply with a different alternative emissions limit, if applicable. * * *

* * * * *

8. Section 63.7732 is amended by:

a. Revising paragraph (a);

b. Revising paragraphs (b) introductory text, (b)(4), and (b)(5) and adding paragraph (b)(6);

c. Revising paragraphs (c) introductory text, (c)(2), (c)(4), and (c)(5) and adding paragraph (c)(6);

d. Revising paragraph (d) introductory text, adding two sentences to the end of paragraph (d)(1), and revising paragraph (d)(2);

e. Revising paragraph (e)(3);

f. Revising paragraphs (f)(2)(ix) and (f)(3);

g. Revising paragraphs (g)(1)(v), (g)(2), and (g)(4);

h. Revising paragraphs (h)(2)(ii), (h)(3)(ii), and (h)(3)(iii); and

i. Adding paragraph (i) to read as follows:

§ 63.7732 What test methods and other procedures must I use to demonstrate initial compliance with the emissions limitations?

(a) You must conduct each performance test that applies to your iron and steel foundry based on your selected compliance alternative, if applicable, according to the requirements in § 63.7(e)(1) and the conditions specified in paragraphs (b) through (i) of this section.

(b) To determine compliance with the applicable emissions limit for PM in § 63.7690(a)(1) through (6) for a metal melting furnace, scrap preheater, pouring station, or pouring area, follow the test methods and procedures in paragraphs (b)(1) through (6) of this section.

* * * * *

(4) For electric arc and electric induction metal melting furnaces, sample only during normal production conditions, which may include, but are not limited to the following cycles: Charging, melting, alloying, refining, slagging, and tapping.

(5) For scrap preheaters, sample only during normal production conditions, which may include, but are not limited to the following cycles: Charging, heating, and discharging.

(6) Determine the total mass of metal charged to the furnace or scrap preheater For a cupola metal melting furnace at an existing iron and steel foundry that is subject to the PM emissions limit in § 63.7690(a)(ii), calculate the PM emissions rate in lb/ton using Equation 1 of this section:

Where:

EFPM = Mass emissions rate of PM, lb/ton;

CPM = Concentration of PM measured during performance test run, gr/dscf;

Q = Volumetric flow rate of exhaust gas, dry standard cubic feet per minute (dscfm);

Mcharge = Mass of metal charged during performance test run, tons;

ttest = Duration of performance test run, minutes; and

7,000 = Unit conversion factor, grains per pound (gr/lb).

(c) To determine compliance with the applicable emissions limit for total metal HAP in § 63.7690(a)(1) through (6) for a metal melting furnace, scrap preheater, pouring station, or pouring area, follow the test methods and procedures in paragraphs (c)(1) through (6) of this section.

* * * * *

(2) A minimum of three valid test runs are needed to comprise a performance test.

* * * * *

(4) For electric arc and electric induction metal melting furnaces, sample only during normal production conditions, which may include, but are not limited to the following cycles: Charging, melting, alloying, refining, slagging, and tapping.

(5) For scrap preheaters, sample only during normal production conditions, which may include, but are not limited to the following cycles: Charging, heating, and discharging.

(6) Determine the total mass of metal charged to the furnace or scrap preheater during each performance test run and calculate the total metal HAP emissions rate using Equation 2 of this section:

Where:

EFTMHAP = Emissions rate of total metal HAP, lb/ton;

CTMHAP = Concentration of total metal HAP measured during performance test run, gr/dscf;

Q = Volumetric flow rate of exhaust gas, dscfm;

Mcharge = Mass of metal charged during performance test run, tons;

ttest = Duration of performance test run, minutes; and

7,000 = Unit conversion factor, gr/lb.

(d) To determine compliance with the opacity limit in § 63.7690(a)(7) for fugitive emissions from buildings or structures housing any iron and steel foundry emissions source at the iron and steel foundry, follow the procedures in paragraphs (d)(1) and (2) of this section.

(1) * * * The certified observer may identify a limited number of openings or vents that appear to have the highest opacities and perform opacity observations on the identified openings or vents in lieu of performing observations for each opening or vent from the building or structure. Alternatively, a single opacity observation for the entire building or structure may be performed, if the fugitive release points afford such an observation.

(2) During testing intervals when PM performance tests, if applicable, are being conducted, conduct the opacity test such the opacity observations are recorded during the PM performance tests.

(e) * * *

(3) For a cupola metal melting furnace, correct the measured concentration of VOHAP, TGNMO, or TOC for oxygen content in the gas stream using Equation 3 of this section:

Where:

CVOHAP = Concentration of VOHAP in ppmv as measured by Method 18 in 40 CFR part 60, appendix A or the concentration of TGNMO or TOC in ppmv as hexane as measured by Method 25 or 25A in 40 CFR part 60, appendix A; and

%O2 = Oxygen concentration in gas stream, percent by volume (dry basis).

* * * * *

(f) * * *

(2) * * *

(ix) Calculate the site-specific VOC emissions limit using Equation 4 of this section:

Where:

CVOHAP,avg = Average concentration of VOHAP for the source test in ppmv as measured by Method 18 in 40 CFR part 60, appendix A or the average concentration of TGNMO for the source test in ppmv as hexane as measured by Method 25 in 40 CFR part 60, appendix A; and

CCEM = Average concentration of total hydrocarbons in ppmv as hexane as measured using the CEMS during the source test.

(3) For two or more exhaust streams from one or more automated conveyor and pallet cooling lines or automated shakeout lines, compute the flow-weighted average concentration of VOHAP emissions for each combination of exhaust streams using Equation 5 of this section:

Where:

Cw = Flow-weighted concentration of VOHAP or VOC, ppmv (as hexane);

Ci = Concentration of VOHAP or VOC from exhaust stream “i”, ppmv (as hexane);

n = Number of exhaust streams sampled; and

Qi = Volumetric flow rate of effluent gas from exhaust stream “i,”, dscfm.

(g) * * *

(1) * * *

(v) Method 18 to determine the TEA concentration. Alternatively, you may use NIOSH Method 2010 (incorporated by reference-see § 63.14) to determine the TEA concentration provided the performance requirements outlined in section 13.1 of EPA Method 18 are satisfied. The sampling option and time must be sufficiently long such that either the TEA concentration in the field sample is at least 5 times the limit of detection for the analytical method or the test results calculated using the laboratory's reported analytical detection limit for the specific field samples are less than ⅕ of the applicable emissions limit. When using Method 18, the adsorbent tube approach, as described in section 8.2.4 of Method 18, may be required to achieve the necessary analytical detection limits. The sampling time must be at least 1 hour in all cases.

(2) If you use a wet acid scrubber, conduct the test as soon as practicable after adding fresh acid solution and the system has reached normal operating conditions.

* * * * *

(4) If you are subject to the 99 percent reduction standard, calculate the mass emissions reduction using Equation 6 of this section:

Where:

Ei = Mass emissions rate of TEA at control device inlet, kilograms per hour (kg/hr); and

Eo = Mass emissions rate of TEA at control device outlet, kg/hr.

(h) * * *

(2) * * *

(ii) Calculate the flow-weighted average emissions limit, considering only the regulated streams, using Equation 5 of this section, except Cw is the flow-weighted average emissions limit for PM or total metal HAP in the exhaust stream, gr/dscf; and Ci is the concentration of PM or total metal HAP in exhaust stream “i”, gr/dscf.

* * * * *

(3) * * *

(ii) Measure the flow rate and PM or total metal HAP concentration of the combined exhaust stream both before and after the control device and calculate the mass removal efficiency of the control device using Equation 6 of this section, except Ei is the mass emissions rate of PM or total metal HAP at the control device inlet, lb/hr and Eo is the mass emissions rate of PM or total metal HAP at the control device outlet, lb/hr.

(iii) Meet the applicable emissions limit based on the calculated PM or total metal HAP concentration for the regulated emissions sources using Equation 7 of this section:

Where:

Creleased = Calculated concentration of PM (or total metal HAP) predicted to be released to the atmosphere from the regulated emissions source, gr/dscf; and

Ci = Concentration of PM (or total metal HAP) in the uncontrolled regulated exhaust stream, gr/dscf.

(i) To determine compliance with an emissions limit for situations when multiple sources are controlled by a single control device, but only one source operates at a time, or other situations that are not expressly considered in paragraphs (b) through (h) of this section, a site-specific test plan should be submitted to the Administrator for approval according to the requirements in § 63.7(c)(2) and (3).

9. Section 63.7733 is amended by revising paragraphs (b)(2), (c)(2), and (d)(2) to read as follows:

§ 63.7733 What procedures must I use to establish operating limits?

* * * * *

(b) * * *

(2) Compute and record the average pressure drop and average scrubber water flow rate for each valid sampling run in which the applicable emissions limit is met.

(c) * * *

(2) Compute and record the average combustion zone temperature for each valid sampling run in which the applicable emissions limit is met.

(d) * * *

(2) Compute and record the average scrubbing liquid flow rate for each valid sampling run in which the applicable emissions limit is met.

* * * * *

10. Section 63.7734 is amended by:

a. Revising paragraph (a) introductory text;

b. Revising paragraph (a)(2)(ii);

c. Adding paragraphs (a)(2)(iii) and (iv);

d. Revising paragraphs (a)(7) and (a)(11) to read as follows:

§ 63.7734 How do I demonstrate initial compliance with the emissions limitations that apply to me?

(a) You have demonstrated initial compliance with the emissions limits in § 63.7690(a) by meeting the applicable conditions in paragraphs (a)(1) through (11) of this section. When alternative emissions limitations are provided for a given emissions source, you are not restricted in the selection of which applicable alternative emissions limitation is used to demonstrate compliance.

* * * * *

(2) * * *

(ii) The average total metal HAP concentration in the exhaust stream, determined according to the performance test procedures in § 63.7732(c), did not exceed 0.0005 gr/dscf; or

(iii) The average PM mass emissions rate, determined according to the performance test procedures in § 63.7732(b), did not exceed 0.10 lb/ton; or

(iv) The average total metal HAP mass emissions rate, determined according to the performance test procedures in § 63.7732(c), did not exceed 0.008 lb/ton.

* * * * *

(7) For each building or structure housing any iron and steel foundry emissions source at the iron and steel foundry, the opacity of fugitive emissions from foundry operations discharged to the atmosphere, determined according to the performance test procedures in § 63.7732(d), did not exceed 20 percent (6-minute average), except for one 6-minute average per hour that did not exceed 27 percent opacity.

* * * * *

(11) For each TEA cold box mold or core making line in a new or existing iron and steel foundry, the average TEA concentration, determined according to the performance test procedures in § 63.7732(g), did not exceed 1 ppmv or was reduced by 99 percent.

* * * * *

11. Section 63.7736 is amended by revising paragraph (c)(1) to read as follows:

§ 63.7736 How do I demonstrate initial compliance with the operation and maintenance requirements that apply to me?

* * * * *

(c) * * *

(1) You have submitted the bag leak detection system monitoring information to the Administrator within the written O&M plan for approval according to the requirements of § 63.7710(b);

* * * * *

12. Section 63.7740 is amended by:

a. Revising paragraph (b);

b. Redesignating paragraphs (c) through (g) as (d) through (h); and

c. Adding paragraph (c) to read as follows:

§ 63.7740 What are my monitoring requirements?

* * * * *

(b) For each negative pressure baghouse or positive pressure baghouse equipped with a stack that is applied to meet any PM or total metal HAP emissions limitation in this subpart, you must at all times monitor the relative change in PM loadings using a bag leak detection system according to the requirements in § 63.7741(b).

(c) For each baghouse, regardless of type, that is applied to meet any PM or total metal HAP emissions limitation in this subpart, you must conduct inspections at their specified frequencies according to the requirements specified in paragraphs (c)(1) through (8) of this section.

(1) Monitor the pressure drop across each baghouse cell each day to ensure pressure drop is within the normal operating range identified in the manual.

(2) Confirm that dust is being removed from hoppers through weekly visual inspections or other means of ensuring the proper functioning of removal mechanisms.

(3) Check the compressed air supply for pulse-jet baghouses each day.

(4) Monitor cleaning cycles to ensure proper operation using an appropriate methodology.

(5) Check bag cleaning mechanisms for proper functioning through monthly visual inspections or equivalent means.

(6) Make monthly visual checks of bag tension on reverse air and shaker-type baghouses to ensure that bags are not kinked (kneed or bent) or lying on their sides. You do not have to make this check for shaker-type baghouses using self-tensioning (spring-loaded) devices.

(7) Confirm the physical integrity of the baghouse through quarterly visual inspections of the baghouse interior for air leaks.

(8) Inspect fans for wear, material buildup, and corrosion through quarterly visual inspections, vibration detectors, or equivalent means.

* * * * *

13. Section 63.7741 is amended by:

a. Revising paragraphs (a)(1)(iv), (a)(2)(i), (a)(2)(iii), (a)(2)(iv), and (a)(2)(vi);

b. Revising paragraph (b) introductory text;

c. Revising paragraphs (c)(1)(iii), (c)(1)(iv), (c)(1)(vi), and (c)(2)(iv);

d. Revising paragraph (d)(8); and

e. Revising paragraph (e)(2)(iv) to read as follows:

§ 63.7741 What are the installation, operation, and maintenance requirements for my monitors?

(a) * * *

(1) * * *

(iv) At least monthly, visually inspect all components, including all electrical and mechanical connections, for proper functioning.

(2) * * *

(i) Locate the pressure sensor(s) in or as close as possible to a position that provides a representative measurement of the pressure and that minimizes or eliminates pulsating pressure, vibration, and internal and external corrosion.

* * * * *

(iii) Check the pressure tap for pluggage daily. If a “non-clogging” pressure tap is used, check for pluggage monthly.

(iv) Using a manometer or equivalent device such as a magnahelic or other pressure indicating transmitter, check gauge and transducer calibration quarterly.

* * * * *

(vi) At least monthly, visually inspect all components, including all electrical and mechanical connections, for proper functioning.

* * * * *

(b) For each negative pressure baghouse or positive pressure baghouse equipped with a stack that is applied to meet any PM or total metal HAP emissions limitation in this subpart, you must install, operate, and maintain a bag leak detection system according to the requirements in paragraphs (b)(1) through (7) of this section.

* * * * *

(c) * * *

(1) * * *

(iii) Check the pressure tap for pluggage daily. If a “non-clogging” pressure tap is used, check for pluggage monthly.

(iv) Using a manometer or equivalent device such as a magnahelic or other pressure indicating transmitter, check gauge and transducer calibration quarterly.

* * * * *

(vi) At least monthly, visually inspect all components, including all electrical and mechanical connections, for proper functioning.

(2) * * *

(iv) At least monthly, visually inspect all components, including all electrical and mechanical connections, for proper functioning.

(d) * * *

(8) At least monthly, visually inspect all components, including all electrical and mechanical connections, for proper functioning.

(e) * * *

(2) * * *

(iv) At least monthly, visually inspect all components, including all electrical and mechanical connections, for proper functioning.

* * * * *

14. Section 63.7743 is amended by:

a. Adding a second sentence to the end of paragraph (a) introductory text and removing the colon after the first sentence in paragraph (a) in text and adding period in its place;

b. Revising paragraph (a)(2)(ii) and adding paragraphs (a)(2)(iii) and (iv);

c. Revising paragraph (a)(7); and

d. Revising paragraph (c) introductory text and paragraphs (c)(1) and (2) to read as follows:

§ 63.7743 How do I demonstrate continuous compliance with the emissions limitations that apply to me?

(a) * * * When alternative emissions limitations are provided for a given emissions source, you must comply with the alternative emissions limitation most recently selected as your compliance alternative.

* * * * *

(2) * * *

(ii) Maintaining the average total metal HAP concentration in the exhaust stream at or below 0.0005 gr/dscf; or

(iii) Maintaining the average PM mass emissions rate at or below 0.10 lb/ton; or

(iv) Maintaining the average total metal HAP mass emissions rate at or below 0.008 lb/ton.

* * * * *

(7) For each building or structure housing any iron and steel foundry emissions source at the iron and steel foundry, maintaining the opacity of any fugitive emissions from foundry operations discharged to the atmosphere at or below 20 percent opacity (6-minute average), except for one 6-minute average per hour that does not exceed 27 percent opacity.

* * * * *

(c) For each baghouse,

(1) Inspecting and maintaining each baghouse according to the requirements of § 63.7740(c)(1) through (8) and recording all information needed to document conformance with these requirements; and

(2) If the baghouse is equipped with a bag leak detection system, maintaining records of the times the bag leak detection system sounded, and for each valid alarm, the time you initiated corrective action, the corrective action taken, and the date on which corrective action was completed.

* * * * *

15. Section 63.7750 is amended by adding a sentence to the end of paragraph (e) introductory text to read as follows:

§ 63.7750 What notifications must I submit and when?

* * * * *

(e) * * * For opacity performance tests, the notification of compliance status may be submitted with the semiannual compliance report in § 63.7751(a) and (b) or the semiannual part 70 monitoring report in § 63.7551(d).

* * * * *

16. Section 63.7751 is amended by revising paragraph (c) to read as follows:

§ 63.7751 What reports must I submit and when?

* * * * *

(c) Immediate startup, shutdown, and malfunction report. If you had a startup, shutdown, or malfunction during the semiannual reporting period that was not consistent with your startup, shutdown, and malfunction plan and the source exceeds any applicable emissions limitation in § 63.7690, you must submit an immediate startup, shutdown, and malfunction report according to the requirements of § 63.10(d)(5)(ii).

* * * * *

17. Section 63.7752 is amended by revising paragraph (a)(4) to read as follows:

§ 63.7752 What records must I keep?

(a) * * *

(4) Records of the annual quantity of each chemical binder or coating material used to coat or make molds and cores, the Material Data Safety Sheet or other documentation that provides the chemical composition of each component, and the annual quantity of HAP used in these chemical binder or coating materials at the foundry as calculated from the recorded quantities and chemical compositions (from Material Data Safety Sheets or other documentation).

* * * * *

18. Section 63.7765 is amended by:

a. Revising the definition for “Deviation”;

b. Adding, in alphabetical order, definitions for “Offblast” and “On blast”; and

c. Revising the definitions “Scrap preheater” and adding “Total metal HAP” to read as follows:

§ 63.7765 What definitions apply to this subpart?

* * * * *

Deviation means any instance in which an affected source or an owner or operator of such an affected source. A deviation is not always a violation. The determination of whether a deviation constitutes a violation of the standard is up to the discretion of the entity responsible for enforcement of the standards.

* * * * *

Off blast means those periods of cupola operation when the cupola is not actively being used to produce molten metal. Off blast conditions include cupola startup when air is introduced to the cupola to preheat the sand bed and other cupola startup procedures as defined in the startup, shutdown, and malfunction plan. Off blast conditions also include idling conditions when the blast air is turned off or down to the point that the cupola does not produce additional molten metal.

On blast means those periods of cupola operation when combustion (blast) air is introduced to the cupola furnace and the furnace is capable of producing molten metal. On blast conditions are characterized by both blast air introduction and molten metal production.

* * * * *

Scrap preheater means a vessel or other piece of equipment in which metal scrap that is to be used as melting furnace feed is heated to a temperature high enough to eliminate volatile impurities or other tramp materials by direct flame heating or similar means of heating. Scrap dryers, which solely remove moisture from metal scrap, are not considered to be scrap preheaters for purposes of this subpart.

* * * * *

Total metal HAP means, for the purposes of this subpart, the sum of the concentrations of antimony, arsenic, beryllium, cadmium, chromium, cobalt, lead, manganese, mercury, nickel, and selenium as measured by EPA Method 29 (40 CFR part 60, appendix A). Only the measured concentration of the listed analytes that are present at concentrations exceeding one-half the quantitation limit of the analytical method are to be used in the sum. If any of the analytes are not detected or are detected at concentrations less than one-half the quantitation limit of the analytical method, the concentration of those analytes will be assumed to be zero for the purposes of calculating the total metal HAP for this subpart.

* * * * *

19. Table 1 to subpart EEEEE is amended by revising the entry for § 63.9 to read as follows:

Table 1 to Subpart EEEEE of Part 63.—Applicability of General Provisions to Subpart EEEEE
* * * * *
Citation | Subject | Applies to subpart EEEEE? | Explanation
* * * * * * *
63.9 | Notification requirements | Yes | Except: For opacity performance tests, Subpart EEEEE allows the notification of compliance status to be submitted with the semiannual compliance report or the semiannual part 70 monitoring report.
* * * * * * *

[FR Doc. E7-7203 Filed 4-16-07; 8:45 am]

BILLING CODE 6560-50-P